POSTAL RATE COMMISSION

Sunshine Act Meeting

AGENCY: Postal Rate Commission.

TIME AND DATE: 3 p.m., Tuesday, January 14, 2003.

PLACE: Commission conference room, 1333 H Street NW., Suite 300, Washington, DC 20268-0001.

STATUS: Closed.

MATTERS TO BE CONSIDERED: Personnel issues.

CONTACT PERSON FOR MORE INFORMATION: Steven W. Williams, Secretary, 202-789-6842.

Dated: January 9, 2003.
Steven W. Williams,
Secretary

[FR Doc. 03-779 Filed 1-9-03; 3:35 pm]

BILLING CODE 7710-FW-M